NUCLEAR REGULATORY COMMISSION

Draft Regulatory Guide: Issuance, Availability Public Workshop

The U.S. Nuclear Regulatory Commission (NRC) has issued for public comment a draft revision to an existing guide in the agency's Regulatory Guide Series. This series has been developed to describe and make available to the public such information as methods that are acceptable to the NRC staff for implementing specific parts of the NRC's regulations, techniques that the staff uses in evaluating specific problems or postulated accidents, and data that the staff needs in its review of applications for permits and licenses.

The draft Revision 1 of Regulatory Guide 1.188, entitled “Standard Format and Content for Applications To Renew Nuclear Power Plant Operating Licenses,” is temporarily identified by its task number, DG-1140, which should be mentioned in all related correspondence. Like its predecessor, the proposed revision describes a method that the NRC staff finds acceptable for complying with the NRC's regulatory requirements in title 10, part 54, of the Code of Federal Regulations (10 CFR part 54), “Requirements for Renewal of Operating Licenses for Nuclear Power Plants” (commonly known as the license renewal rule). Specifically, 10 CFR part 54 specifies the information that a nuclear power plant licensee must include in its application to renew an operating license issued by the NRC.

The NRC initially issued this guide as Regulatory Guide 1.188, dated July 2001, after soliciting and resolving public comments on three draft regulatory guides (DG-1104 in August 2000, DG-1047 in August 1996, and DG-1009 in December 1990). As such, Regulatory Guide 1.188 incorporated lessons learned from the review of license renewal applications and Owners Group topical report reviews. The guide also incorporated relevant information gleaned from developing the “Standard Review Plan for the Review of License Renewal Applications for Nuclear Power Plants” (NUREG-1800),¹ and the “Generic Aging Lessons Learned (GALL) Report” (NUREG-1801), as well as public comments received on those documents. (The staff summarized those comments in NUREG-1739, “Analysis of Public Comments on the Improved License Renewal Guidance Documents.” )

¹ Copies are available at current rates from the U.S. Government Printing Office, P.O. Box 37082, Washington, DC 20402-9328 (telephone (202) 512-1800); or from the National Technical Information Service (NTIS) by writing NTIS at 5285 Port Royal Road, Springfield, VA 22161; http://www.ntis.gov; telephone (703) 487-4650. Copies are available for inspection or copying for a fee from the NRC's Public Document Room at 11555 Rockville Pike, Rockville, MD; the PDR's mailing address is USNRC PDR, Washington, DC 20555; telephone (301) 415-4737 or (800) 397-4209; fax (301) 415-3548; e-mail is PDR@nrc.gov. These documents are also available electronically through the NRC's public Web site at http://www.nrc.gov/reading-rm/doc-collections/nuregs/staff/.

Since the NRC initially published Regulatory Guide 1.188, the Nuclear Energy Institute (NEI) has developed Revision 5 of NEI 95-10, “Industry Guideline for Implementing the Requirements of 10 CFR part 54—The License Renewal Rule,” dated January 2005.² The NRC staff has reviewed that document and found that, with the exceptions discussed in Section C, “Regulatory Position,” of Draft Regulatory Guide DG-1140, Revision 5 of NEI 95-10 provides guidance that the staff considers acceptable for use in implementing the license renewal rule.

² Copies are available for inspection or copying for a fee from the NRC's Public Document Room at 11555 Rockville Pike, Rockville, MD; the PDR's mailing address is USNRC PDR, Washington, DC 20555; telephone (301) 415-4737 or (800) 397-4209; fax (301) 415-3548; e-mail PDR@nrc.gov. This document is also available through the NRC's license renewal Web page at http://www.nrc.gov/reactors/operating/licensing/renewal/guidance.html#nuclear, and through the NRC's Agencywide Documents Access and Management System (ADAMS) at http://www.nrc.gov/reading-rm/adams.html, under Accession No. ML050280113. Note, however, that the NRC has temporarily suspended public access to ADAMS so that the agency can complete security reviews of publicly available documents and remove potentially sensitive information. Please check the NRC's Web site for updates concerning the resumption of public access to ADAMS.

The NRC staff is soliciting stakeholder comments on Draft Regulatory Guide DG-1140 and/or Revision 5 of NEI 95-10, and specifically on any inconsistency or incompatibility between the guidance in these documents and the NRC guidance set forth in NUREG-1800 and NUREG-1801. Toward that end, the NRC is also announcing a public workshop to gather public comments on the revised documents. The workshop is scheduled for March 2, 2005, and will be held in the Commissions' Hearing Room, Room O-1G16, at the NRC's headquarters in Rockville, Maryland. For further details and the workshop agenda, see the related meeting notice, which will be available on the NRC's public Web site at http://www.nrc.gov/public-involve/public-meetings/meeting-schedule.html.

The NRC staff anticipates that the workshop will give participants an opportunity to ask questions, obtain further information, offer comments and opinions, and otherwise facilitate the formulation and preparation of written comments for NRC staff consideration of the revised license renewal guidance documents. To ensure that the staff records all stakeholder input, the proceedings of the workshop will be transcribed and the NRC staff will prepare a summary report to categorize the comments.

Comments on Draft Regulatory Guide DG-1140 and/or Revision 5 of NEI 95-10 may be submitted in writing or in electronic form. Please mention DG-1140 in the subject line of your comments. All comments should include supporting justification in enough detail for the NRC staff to evaluate the need for changes in the guidance, as well as references to the operating experience, industry standards, or other relevant reference materials that provide a sound technical basis for such changes. Editorial and style comments are not necessary because the NRC staff anticipates the need to edit and reformat the guidance documents before issuing them in final form.

Comments Draft Regulatory Guide DG-1140 and/or Revision 5 of NEI 95-10 will be made available to the public in their entirety in the NRC's Agencywide Documents Access and Management System (ADAMS). Personal information will not be removed from your comments. You may submit comments by any of the following methods.

Mail comments to: Rules and Directives Branch, Office of Administration, U.S. Nuclear Regulatory Commission, Washington, DC 20555-0001.

E-mail comments to: NRCREP@nrc.gov. You may also submit comments via the NRC's rulemaking Web site at http://ruleforum.llnl.gov. Address questions about our rulemaking Web site to Carol A. Gallagher (301) 415-5905; e-mail CAG@nrc.gov.

Hand-deliver comments to: Rules and Directives Branch, Office of Administration, U.S. Nuclear Regulatory Commission, 11555 Rockville Pike, Rockville, Maryland 20852, between 7:30 a.m. and 4:15 p.m. on Federal workdays.

Fax comments to: Rules and Directives Branch, Office of Administration, U.S. Nuclear Regulatory Commission at (301) 415-5144.

Requests for technical information about Draft Regulatory Guide DG-1140 may be directed to Mr. M.P. Lintz, at (301) 415-4051 or via e-mail to MPL2@nrc.gov.

Comments would be most helpful if received by March 31, 2005. Comments received after this date will be considered if it is practical to do so, but the NRC is able to ensure consideration only for comments received on or before this date. Although a time limit is given, comments and suggestions in connection with items for inclusion in guides currently being developed or improvements in all published guides are encouraged at any time.

Electronic copies of the draft regulatory guide are available through the NRC's public Web site under Draft Regulatory Guides in the Regulatory Guides document collection of the NRC's Electronic Reading Room at http://www.nrc.gov/reading-rm/doc-collections/. Electronic copies are also available in the NRC's Agencywide Documents Access and Management System (ADAMS) at http://www.nrc.gov/reading-rm/adams.html, under Accession #ML050230010. Note, however, that the NRC has temporarily suspended public access to ADAMS so that the agency can complete security reviews of publicly available documents and remove potentially sensitive information. Please check the NRC's Web site for updates concerning the resumption of public access to ADAMS.

In addition, regulatory guides are available for inspection at the NRC's Public Document Room (PDR), which is located at 11555 Rockville Pike, Rockville, Maryland; the PDR's mailing address is USNRC PDR, Washington, DC 20555-0001. The PDR can also be reached by telephone at (301) 415-4737 or (800) 397-4205, by fax at (301) 415-3548; and by e-mail to PDR@nrc.gov. Requests for single copies of draft or final guides (which may be reproduced) or for placement on an automatic distribution list for single copies of future draft guides in specific divisions should be made in writing to the U.S. Nuclear Regulatory Commission, Washington, DC 20555-0001, Attention: Reproduction and Distribution Services Section; by e-mail to DISTRIBUTION@nrc.gov; or by fax to (301) 415-2289. Telephone requests cannot be accommodated.

Regulatory guides are not copyrighted, and Commission approval is not required to reproduce them.

(5 U.S.C. 552(a))

Dated at Rockville, Maryland, this 28th day of January, 2005.
For the U.S. Nuclear Regulatory Commission.
Gina F. Thompson,
Acting Director, Program Management, Policy Development and Analysis Staff, Office of Nuclear Regulatory Research.

[FR Doc. 05-2025 Filed 2-1-05; 8:45 am]

BILLING CODE 7590-01-P